DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On November 19, 2018, OFAC determined that the property and interests in property subject to U.S. jurisdiction of the following person subject to U.S. jurisdiction are blocked pursuant to the relevant sanctions authority listed below.

Individual

1. AMTCHENTSEV, Vladlen, Singapore; DOB 25 Jan 1969; POB Klimovsk, Russia; Gender Male; Secondary sanctions risk: North Korea Sanctions Regulations, sections 510.201 and 510.210; Passport M00021291 (South Africa) issued 04 May 2010 expires 03 May 2020; National ID No. 6901256079081 (South Africa) (individual) [DPRK3] (Linked To: VELMUR MANAGEMENT PTE LTD).

Designated pursuant to Section 2(a)(viii) of Executive Order 13722 of March 15, 2016, “Blocking Property of the Government of North Korea and the Workers' Party of Korea, and Prohibiting Certain Transactions With Respect to North Korea” (E.O. 13722) for having acted or purported to act for or on behalf of, directly or indirectly, VELMUR MANAGEMENT PTE. LTD., a person whose property and interests are blocked pursuant to E.O. 13722.

Dated: November 19, 2018.
Andrea M. Gacki,
Director, Office of Foreign Assets Control.

[FR Doc. 2018-25592 Filed 11-23-18; 8:45 am]

BILLING CODE 4810-AL-P